ENVIRONMENTAL PROTECTION AGENCY

40 CFR Parts 1036, 1037, 1054, 1065, and 1074

[EPA-HQ-OAR-2022-0985; FRL-10827-01-OAR]

Public Hearing for Greenhouse Gas Emissions Standards for Heavy-Duty Vehicles—Phase 3

AGENCY: Environmental Protection Agency (EPA).

ACTION: Notification of public hearing.

SUMMARY: The Environmental Protection Agency (EPA) is announcing a two-day virtual public hearing to be held May 2 and May 3, 2023, on its proposal titled “Greenhouse Gas Emissions Standards for Heavy-Duty Vehicles—Phase 3,” which was signed by Administrator Regan on April 11, 2023. An additional session may be held on May 4, 2023, if necessary to accommodate the number of testifiers that sign up to testify. In its proposal, EPA is proposing to promulgate new Greenhouse Gas (GHG) standards for heavy-duty highway vehicles starting in model year (MY) 2028 through MY 2032 and to revise certain GHG standards for MY 2027 that were established previously under EPA's Greenhouse Gas Emissions and Fuel Efficiency Standards for Medium- and Heavy-Duty Engines and Vehicles—Phase 2 rule. Finally, as part of this action, EPA is proposing to revise its regulations addressing preemption of state regulation of locomotives.

DATES: EPA will hold a virtual public hearing on May 2 and May 3, 2023. An additional session may be held on May 4, 2023, if necessary to accommodate the number of testifiers that sign-up to testify. Please refer to the SUPPLEMENTARY INFORMATION section of this document for additional information on the proposal, the public hearing, and registration. See EPA's heavy-duty GHG website at https://www.epa.gov/regulations-emissions-vehicles-and-engines/proposed-rule-greenhouse-gas-emissions-standards-heavy for any updates to the scheduled hearing as EPA does not intend to publish a document in the Federal Register announcing updates.

ADDRESSES: The virtual public hearing will be held on May 2 and May 3, 2023. All hearing attendees (including those who do not intend to provide testimony) should notify EPA of their intent to attend or speak at the hearing by preregistering by April 26, 2023, preferably by email to EPA-HD-Hearings@epa.gov, or by contacting the contact person listed under FOR FURTHER INFORMATION CONTACT below. Additional information regarding the hearing appears below under SUPPLEMENTARY INFORMATION.

FOR FURTHER INFORMATION CONTACT: Amy Kopin, Office of Transportation and Air Quality, Assessment and Standards Division (ASD), Environmental Protection Agency, 2000 Traverwood Drive, Ann Arbor, MI 48105; telephone number: (734) 214-4173; email address: EPA-HD-Hearings@epa.gov.

SUPPLEMENTARY INFORMATION: Under its Clean Air Act section 202 authority, EPA is proposing new, more stringent GHG emissions standards for heavy-duty vehicles. Specifically, EPA is proposing new GHG standards for heavy-duty highway vehicles starting in MY 2028 through MY 2032 and to revise certain GHG standards for MY 2027 that were established previously under EPA's Greenhouse Gas Emissions and Fuel Efficiency Standards for Medium- and Heavy-Duty Engines and Vehicles—Phase 2 rule (“HD GHG Phase 2”). EPA is also proposing to update discrete elements of the Averaging Banking and Trading program, including a proposal to eliminate the last model year of the HD GHG Phase 2 advanced technology incentive program for certain types of electric highway heavy-duty vehicles. EPA is proposing to add warranty requirements for batteries and other components of zero-emission vehicles and to require customer-facing battery state-of-health monitors for plug-in hybrid and battery electric vehicles. EPA is also proposing additional revisions and clarifying and editorial amendments to certain highway heavy-duty vehicle provisions of 40 CFR part 1037 and certain test procedures for heavy-duty engines in 40 CFR parts 1036 and 1065. Finally, as part of this action, EPA is proposing to revise its regulations addressing preemption of state regulation of locomotives.

The “Greenhouse Gas Emissions Standards for Heavy-Duty Vehicles—Phase 3” proposed rule was signed on April 11, 2023 and will be published in the Federal Register. The pre-publication version is available at https://www.epa.gov/regulations-emissions-vehicles-and-engines/proposed-rule-greenhouse-gas-emissions-standards-heavy.

EPA is hosting a separate hearing for the “Multi-Pollutant Emissions Standards for Model Years 2027 and Later Light-Duty and Medium-Duty Vehicles” (LMDV) proposed rule that was signed on April 11, 2023. For more information on the LMDV rule and how to attend the LMDV hearing visit the light-duty vehicle GHG rule website at https://www.epa.gov/regulations-emissions-vehicles-and-engines/proposed-rule-multi-pollutant-emissions-standards-model.

Participation in Virtual Public Hearing

To register to speak at the virtual hearing or attend the hearing (including those who do not intend to provide testimony) please notify EPA by April 26, 2023, preferably by email to EPA-HD-Hearings@epa.gov, or by contacting the contact person listed under FOR FURTHER INFORMATION CONTACT. While preregistration by April 26, 2023, is preferred, registration will be open through the last day of the hearing. However, we request that you register by April 26, 2023, if you are requesting special accommodations and describe your needs. To the extent possible, EPA will work to accommodate requests to register or testify received after April 26, 2023, although EPA may not be able to arrange special accommodations without advanced notice. Instructions and a link to join the hearing will be provided via email to all participants that register.

Each speaker will have a maximum of three minutes to provide oral testimony. EPA may ask clarifying questions during the oral presentations but will not respond to the presentations at that time. EPA recommends submitting the text of your oral comments as written comments to the rulemaking docket for this action (Docket ID EPA-HQ-OAR-2022-0985); please clearly mark your submittal as hearing testimony. Written statements and supporting information submitted during the comment period will be considered with the same weight as oral comments and supporting information presented at the public hearing.

The testimony provided will be transcribed and included as a part of the record in the docket for this rulemaking. Additional written comments may be submitted to the rulemaking docket, which may be accessed via www.regulations.gov. Do not include, either in testimony or written comments submitted directly to the docket, any information you consider to be sensitive information, including but not limited to Confidential Business Information (CBI)/Proprietary Business Information (PBI), medical information about someone other than yourself, or any information whose disclosure is restricted by an applicable authority. Please visit https://www.epa.gov/dockets/commenting-epa-dockets for additional submission methods; the full EPA public comment policy; information about how to submit sensitive information such as CBI/PBI, or multimedia submissions; and general guidance on making effective comments.

Please note that any updates made to any aspect of the hearing logistics, including a potential additional session on May 4, 2023, will be posted online at the heavy-duty vehicle GHG rule website (https://www.epa.gov/regulations-emissions-vehicles-and-engines/proposed-rule-greenhouse-gas-emissions-standards-heavy). While EPA expects the hearing to go forward as set forth above, please monitor our website or contact the person listed in the FOR FURTHER INFORMATION CONTACT section to determine if there are any updates. EPA does not intend to publish a document in the Federal Register announcing updates.

EPA will provide participants with the option to enable live closed captioning services and if requested, Spanish interpretation during the hearing. If you are requesting special accommodations, please pre-register for the hearing and describe your needs by April 26, 2023. EPA may not be able to arrange accommodations without advanced notice.

How can I get copies of the proposed action and other related information?

EPA has established a docket for this action under Docket ID No. EPA-HQ-OAR-2022-0985. EPA has also developed a website for this proposal, which is available at https://www.epa.gov/regulations-emissions-vehicles-and-engines/proposed-rule-greenhouse-gas-emissions-standards-heavy. Please refer to the notice of proposed rulemaking for detailed information on accessing information related to the proposal.

William Charmley,
Director, Assessment and Standards Division, Office of Transportation and Air Quality.

[FR Doc. 2023-07964 Filed 4-14-23; 8:45 am]

BILLING CODE 6560-50-P